OFFICE OF THE UNITED STATES TRADE REPRESENTATIVE

Trade Policy Staff Committee; Notice of Availability and Request for Public Comment on Draft Environmental Review of United States-Singapore Free Trade Agreement

AGENCY: Office of the United States Trade Representative.

ACTION: Notice of availability and request for public comment.

SUMMARY: The Office of the U.S. Trade Representative (USTR), on behalf of the Trade Policy Staff Committee (TPSC), seeks comment on the draft environmental review of the proposed U.S.-Singapore Free Trade Agreement (FTA). The draft environmental review is available at http://www.ustr.gov/environment/environmental.shtml. Copies of the review will also be sent to interested members of the public by mail upon request.

DATES: Comments on the draft environmental review are requested by September 20, 2002.

FOR FURTHER INFORMATION CONTACT: For procedural questions concerning public comments, contact Gloria Blue, Executive Secretary, TPSC, Office of the USTR, 1724 F Street, NW., Washington, DC 20508, telephone (202) 395-3475. Questions concerning the environmental review, or requests for copies, should be addressed to Alice Mattice or David Brooks, Environment and Natural Resources Section, Office of the USTR, telephone 202-395-7320.

SUPPLEMENTARY INFORMATION: Executive Order 13121—Environmental Review of Trade Agreements (64 FR 63,169, Nov. 18, 1999) and its implementing guidelines (65 FR 79,442, Dec. 19, 2000) require environmental reviews of certain major trade agreements. The Trade Act of 2002, signed by the President on August 6, 2002, provides that the President shall conduct environmental reviews consistent with the Order and its relevant guidelines, and report on such reviews to the Committee on Ways and Means of the House of Representatives and the Committee on Finance of the Senate. The Order and guidelines are available at http://www.ustr.gov/environment/environmental.shtml.

On November 29, 2000, at the outset of the negotiations, the TPSC initiated the environmental review of the Singapore FTA and requested public comments on the scope of the review, including the potential environmental effects that might flow from the FTA and the potential implications for environmental laws and regulations. See 65 FR 71,197 (Nov. 29, 2000); 65 FR 80,982 (Dec. 22, 2000) (extending public comment period). Because the negotiating schedule proved to be more extended than originally anticipated, the TPSC provided a supplemental opportunity for public comments. See 67 FR 8833 (Feb. 26, 2002). The TPSC also held a public hearing to discuss issues raised in connection with the Singapore FTA, including environmental issues. See 67 FR 9349 (Feb. 28, 2002).

Written Comments

In order to facilitate prompt processing of submissions of comments, the Office of the Unites States Trade Representative strongly urges and prefers e-mail submissions in response to this notice. Persons submitting comments by e-mail should use the following e-mail address: FR0029@ustr.gov with the subject line: “Singapore Draft Environmental Review.” Documents should be submitted as either WordPerfect, MSWord, or text (.TXT) files. Persons who make submissions by e-mail should not provide separate cover letters; information that might appear in a cover letter should be included in the submission itself. To the extent possible, any attachments to the submission should be included in the same file as the submission itself, and not as separate files. If submission by e-mail is impossible, comments should be made by facsimile to (202) 395-6143, attention: Gloria Blue.

Written comments will be placed in a file open to public inspection in the USTR Reading Room at 1724 F Street, NW., Washington DC. An appointment to review the file may be made by calling (202) 395-6186. The Reading Room is open to the public from 10-12 a.m. and from 1-4 p.m., Monday through Friday.

Carmen Suro-Bredie,
Chair, Trade Policy Staff Committee.

[FR Doc. 02-20505 Filed 8-13-02; 8:45 am]

BILLING CODE 3190-01-P